DEPARTMENT OF JUSTICE

[OMB Number 1122-ONEW]

Agency Information Collection Activities; Proposed eCollection eComments; Requested; New Collection; Title—Optional Flexible Financial Assistance Survey

AGENCY: Office on Violence Against Women, Department of Justice.

ACTION: 60-Day notice.

SUMMARY: The Department of Justice (DOJ), Office on Violence Against Women will be submitting the following information collection request to the Office of Management and Budget (OMB) for review and approval in accordance with the Paperwork Reduction Act of 1995.

DATES: Comments are encouraged and will be accepted for 60 days until November 17, 2025.

FOR FURTHER INFORMATION CONTACT: If you have additional comments especially on the estimated public burden or associated response time, suggestions, or need a copy of the proposed information collection instrument with instructions or additional information, please contact Tiffany Watson, Office on Violence Against Women, at 202-514-5430 or Tiffany.Watson@usdoj.gov.

SUPPLEMENTARY INFORMATION: Written comments and suggestions from the public and affected agencies concerning the proposed collection of information are encouraged. Your comments should address one or more of the following four points:

—Evaluate whether the proposed collection of information is necessary for the proper performance of the functions of the Office, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW) administers the Financial Assistance Grants for Victims of Sexual Assault, Domestic Violence, Dating Violence, and Stalking Program (FAV Program). This program is authorized by Consolidated Appropriations Act, 2023, Public Law 117-328, 136 Stat. 4459, 4532 and Consolidated Appropriations Act, 2024, Public Law 118-42, 138 Stat. 25, 143. The FAV Program supports victim service providers, Tribal governments, and Tribal organizations to provide flexible financial assistance to survivors of sexual assault, domestic violence, dating violence, and stalking, alongside other victim services. Flexible financial assistance is intended to support survivors in achieving safety, stability, and healing by paying for necessities that are not easily met by traditional service providers and with the flexibility to meet self-identified needs quickly. The first set of grants under the FAV program were issued in 2024.

The planned data collection is a short, optional survey that grant recipients under the FAV Program will make available to victims who receive flexible financial assistance. The optional survey will be fielded virtually via an OMB-approved survey platform, such as Qualtrics or Touchpoints. Grantees will also include aggregated survey results in their twice-annual performance reports submitted to OVW. This data will be used to ensure successful implementation of this pilot program and monitor the program's operation. The survey will ask limited questions about how and when survivors of domestic violence, sexual assault, dating violence and stalking received flexible financial assistance, as well as information about the impact of financial assistance in pursuing safety and security for themselves and their families. This data will inform future programming and provide information about the effectiveness of OVW-funded financial assistance for victims to Congress and other stakeholders.

Overview of This Information Collection

1. Type of Information Collection: New collection.

2. The Title of the Form/Collection: Optional Flexible Financial Assistance Survey.

3. The agency form number, if any, and the applicable component of the Department sponsoring the collection: Form Number: 1122-XXXX. U.S. Department of Justice, Office on Violence Against Women.

4. Affected public who will be asked or required to respond, as well as the obligation to respond: The affected public includes grantees under OVW's Financial Assistance Program and recipients of flexible financial assistance distributed by those grantees. The survey is optional.

5. An estimate of the total number of respondents and the amount of time estimated for an average respondent to respond: It is estimated that it will take approximately 2,600 respondents approximately 10 minutes to complete the optional survey.

6. An estimate of the total annual burden (in hours) associated with the collection: The total annual hour burden to complete the data collection forms is 433 hours. OVW anticipates that 13 grantees will administer this survey to an annual average of 200 people who receive flexible financial assistance. Two hundred participants each at 13 sites totals 2,600 people completing the survey each year. If it takes 10 minutes to complete the survey, then that is 26,000 minutes annually, which is approximately 433 hours.

7. An estimate of the total annual cost burden associated with the collection, if applicable:

Activity | Estimated number of respondents | Frequency | Total annual responses | Time per response (min.) | Total annual burden (hours)
Flexible Financial Assistance Survey | 2,600 | 1 time per recipient | 2,600 | 10 | 433
Unduplicated Totals | 2,600 |  | 2,600 |  | 433

If additional information is required contact: Darwin Arceo, Department Clearance Officer, United States Department of Justice, Justice Management Division, Enterprise Portfolio Management, Two Constitution Square, 145 N Street NE, 4W-218, Washington, DC.

Dated: September 15, 2025.
Darwin Arceo,
Department Clearance Officer for PRA, U.S. Department of Justice.

[FR Doc. 2025-17953 Filed 9-16-25; 8:45 am]

BILLING CODE 4410-FX-P